DEPARTMENT OF JUSTICE

Antitrust Division

Notice Pursuant to the National Cooperative Research and Production Act of 1933—PKI Forum, Inc.

Notice is hereby given that, on April 2, 2001, pursuant to Section 6(a) of the National Cooperative Research and Production Act of 1993, 15 U.S.C. 4301 et seq. (“the Act”), PKI Forum, Inc. has filed written notifications simultaneously with the Attorney General and the Federal Trade Commission disclosing (1) the identities of the parties and (2) the nature and objectives of the venture. The notifications were filed for the purpose of invoking the Act's provisions limiting the recovery of antitrust plaintiffs to actual damages under specified circumstances. pursuant to Section 6(b) of the Act, the identities of the parties are Andes Networks, Inc., Mountain View, CA; Baltimore, Dublin, Ireland; CertCo, New York, NY; Chrysalis-ITS, Ottawa, Ontario, Canada; Cisco Systems, San Jose, CA; Communications Electronics Security Group (CESG), Cheltenham, Glos, United Kingdom; Compaq Computer Corporation, Houston, TX; Computer Associates, Herndon, VA; Conclusive Logic, Maidenhead, Berks, United Kingdom; Cryptomathic, Aarhus C, Denmark; Cylink, Corporation, Santa Clara, CA; DataKey, Inc., Minneapolis, MN; De La Rue InterClear Limited, Gasingstoke, United Kingdom; Digital Signature Trust Co., Salt Lake City, UT; Diversinet Corp., Toronto, Ontario, Canada; Entrust Technologies, Ottawa, Ontario, Canada; Fujitsu Limited, Tokyo, Japan; FundSERV Inc., Toronto, Ontario, Canada; GlobalSign SA/NV, Brussels, Belgium; LockStar, Inc., Lyndhurst, NJ; Neucom Corporation, Shibuya-ku, Tokyo, Japan; Odyssey Technologies Ltd, Chennai, India; RSA Security, Inc., Bedford, MA; SECUDE GmbH, Darmstadt, Germany; SHYM Technology, Inc., Needham, MA; SSE Ltd, Dublin, Ireland; SSH Communications Security Corp., Helsinki, Finland; Sybase Inc., Emeryville, CA; TeleTrusT e.V., Erfurt, Germany; VeriSign, Inc., Mountain View, CA; Visa International, Foster City, CA; and Wells Fargo, San Francisco, CA.

The venture was formed as a Delaware non-stock member corporation. The nature and objectives of the venture are (a) to provide a forum for the demonstration of support for standards-based, interoperable public key infrastructure as a foundation for e-business and e-business applications; (b) to foster interoperability by interacting with appropriate standards and testing bodies; (c) to initiate studies and demonstration projects to show the value of interoperable PKI Forum, Inc. and PKI Forum, Inc. based solutions; and (d) to undertake such other activities as may from time to time be appropriate to further the purposes and achieve the goals set forth above.

Constance K. Robinson,
Director of Operations, Antitrust Division.

[FR Doc. 01-11128 Filed 5-2-01; 8:45 am]

BILLING CODE 4410-11-M